SOCIAL SECURITY ADMINISTRATION

Statement of Organization, Functions and Delegations of Authority

This statement amends Parts S and T of the Statement of the Organization, Functions and Delegations of Authority, which cover the Social Security Administration (SSA). This notice establishes a new Office of the Chief Strategic Officer (T). It removes the Office of Strategic Management (SAQ) from the Office of the Commissioner (SA) and places it in this new Office. It also removes the Office of Workforce Analysis (S7H) from the Office of the Deputy Commissioner for Human Resources (S7) and places it in the new Office. In addition, it transfers the competitive sourcing function from the Office of Budget, Office of the Deputy Commissioner for Finance, Assessment and Management. The new material and changes are as follows:

Chapter S

Social Security Administration

Section S.10 The Social Security Administration—(Organization): The Social Security Administration, under the supervision and direction of the Commissioner of Social Security (the Commissioner), includes:

Establish:

N. The Office of the Chief Strategic Officer (T)

Chapter SA

Office of the Commissioner

Section SA.10 The Office of the Commissioner—(Organization): The Office of the Commissioner, under the leadership of the Commissioner of Social Security, includes:

Delete:

E. The Office of Strategic Management (SAQ)

Section SA.20 The Office of the Commissioner—(Functions): Delete E, paragraphs 1-4.

Chapter S7

The Office of the Deputy Commissioner, Human Resources

S7.00 Mission

S7.10 Organization

S7.20 Functions

Section S7.00 The Office of the Deputy Commissioner, Human Resources—(Mission):

Delete: From the first paragraph, last line, “and workforce analysis”.

Section S7.10 The Office of the Deputy Commissioner, Human Resources—(Organization): The Office of the Deputy Commissioner, Human Resources, under the leadership of the Deputy Commissioner, Human Resources, includes:

Delete:

H. The Office of Workforce Analysis (S7H).

Section S7.20 The Office of the Deputy Commissioner, Human Resources—(Functions): Delete paragraph H in its entirety.

Delete in its entirety:

Subchapter S7H—Office of Workforce Analysis

Chapter S1

The Office of the Deputy Commissioner, Finance, Assessment and Management

Chapter S1P

Office of Budget

Section S1P.20 The Office of Budget—(Functions):

F. The Office of Administrative Budget Coordination and Analysis (S1PC).

Delete Paragraph 5 that reads as follows:

5. “Develops and implements a program to evaluate Agency operations in accordance with the requirements of A-76.”

Establish:

Subchapter T_

The Office of the Chief Strategic Officer

T .00 Mission

T .10 Organization

T .20 Functions

Section T .00 The Office of the Chief Strategic Officer—(Mission):

The Office of the Chief Strategic Officer directs the administration of SSA's comprehensive management programs including quality management, strategic planning, workforce analysis, and competitive sourcing. The office directs the development of innovative changes to the current Agency quality management program, including the program's initiatives and mechanisms when they are not clearly delineated by statutory authority. Such changes may impact quality management Agency-wide in terms of its programs, policies, and procedures. The Office of the Chief Strategic Officer provides advice and recommendations related to quality management policy development and related process changes that cut across component functional lines or are not well defined in existing statutory authority. It directs the development of the Agency's tactical and strategic planning process, the Agency Strategic Plan, Annual Performance Plan and Annual Performance Report; and tracks Agency performance in relation to established performance measures. Working with all components, the office identifies those priority initiatives needed to meet Agency goals, objectives and outcomes and how to link these to budget input so that they can be funded and the outcomes achieved. It directs, develops and implements a comprehensive program of management studies, research and analyses. This allows SSA to evaluate and determine the feasibility of implementing major changes affecting the SSA organization, its administrative practices, its methods of operation and work processes and procedures, workflow and workload processing positions. It directs the Agency's policies and procedure as well as the management of the Agency competitive sourcing program.

Section T .10 The Office of the Chief Strategic Officer—(Organization):

Under the leadership of the Chief Strategic Officer, the Office of the Chief Strategic Officer includes:

A. The Chief Strategic Officer

B. The Immediate Office of the Chief Strategic Officer

C. The Office of Quality Management

D. The Office of Strategic Management

E. The Office of Workforce Analysis

F. The Office of Competitive Sourcing

Section T .20 The Office of the Chief Strategic Officer—(Functions):

A. The Chief Strategic Officer is directly responsible to the Commissioner for carrying out the Office of the Chief Strategic Officer mission and providing general supervision to the major components of the Office of the Chief Strategic Officer. The Deputy Chief Strategic Officer assists the Chief Strategic Officer in carrying out his/her responsibilities.

B. The Immediate Office of the Chief Strategic Officer provides the Chief Strategic Officer with management support on the full range of his/her responsibilities. Other duties include the coordination and preparation of reports on a variety of projects. The Office is responsible for Agency compliance with legislation, OMB Directives and GAO guidance concerning quality management, strategic planning, workforce analysis and competitive sourcing.

C. The Office of Quality Management is responsible for rendering formal advice and recommendations to Agency executives on a range of issues relating specifically to quality management in each of the Agency's core business areas. The office initiates change to the current quality management program and mechanisms that are not clearly delineated by statutory authority (i.e., QA DDS Reviews for Accuracy, Stewardship Review of Payment Accuracy, etc.). It works with Deputy Commissioner-level components to direct the Agency-wide quality management program, its policies and initiatives involving one or more component of SSA.

D. The Office of Strategic Management directs the development of the Agency's tactical and strategic planning process, the Agency Strategic Plan, Annual Performance Plan, Annual Performance Report and tracks Agency performance in relation to established performance measures. It works with all components to identify those priority initiatives needed to meet Agency goals, objectives and outcomes and how to link these to budget inputs so that they can be funded and the outcomes achieved. It also supports an ongoing market measurement program that collects and assesses feedback to be used and provides staff support to Deputy Commissioner-level components on strategic initiatives.

E. The Office of Workforce Analysis directs, develops and implements a comprehensive program of management studies, research and analysis to evaluate and determine the feasibility of implementing major changes affecting the SSA organization, its administrative practices and its methods of operation. Studies and analyses are Agency-wide, frequently deal with issues of a sensitive nature and may involve other Government agencies. It uses a variety of analytical methodologies to identify alternatives and develop administrative strategies for consideration by the SSA Executive Staff in responding to Agency-wide problems and issues. It develops SSA-wide workforce management policies, procedures and guidelines; determines resource requirements, conducts trend analysis; and makes recommendations regarding management options, transition alternatives, etc., as appropriate. It develops and implements comprehensive workforce utilization and planning programs to improve productivity and the use of the SSA workforce. It conducts studies and analyses of work processes and procedures, workflow and workload processing positions; applies a variety of disciplines and techniques, including management analysis and model building to assure best workforce utilization; and recommends action to top SSA executives for improving the effectiveness of the SSA workforce. It develops, analyzes and interprets workforce-forecasting data and projects future workforce needs, including the types of skills and positions required. It directs, develops and conducts Agency-wide reviews and studies, using industrial engineering, model building and other scientific approaches and methodologies. The results of its studies on workforce effectiveness will allow Agency executives to evaluate competitive sourcing efforts that may result in new planning strategies.

F. The Office of Competitive Sourcing provides a variety of high level coordinative, analytical, consultative and advisory services in the interpretation and application of the Federal Activities Inventory Reform Act of 1998 (FAIR Act) and the Office of Management and Budget (OMB) Circular A-76. A-76 requires the evaluation of Agency functions with regard to competitive sourcing. The office serves as the principal technical authority on the public/private competition of commercial activities. Based on the analysis and interpretation of Congressional and OMB requirements, the office develops Agency-wide policy, procedures and strategy, in consultation with the Commissioner, the Deputy Commissioner and the Chief Strategic Officer, for the implementation of the FAIR Act and OMB's A-76 requirements. It is responsible for ensuring that the commercial activity inventories satisfy legislative and regulatory requirements for the analysis of commercial activities. It resolves critical legal and technical issues with OMB staff. The office also provides components with expert assistance in conducting commercial activity cost comparison studies to improve processes and work efficiencies.

Dated: December 20, 2002.
Jo Anne B. Barnhart,
Commissioner of Social Security.

[FR Doc. 02-32993 Filed 12-30-02; 8:45 am]

BILLING CODE 4191-02-P